DEPARTMENT OF THE INTERIOR

Bureau of Land Management

[17X.LLAZ956000.L14400000.BJ0000.LXSSA225000.241A]

Notice of Filing of Plats of Survey; Arizona

AGENCY: Bureau of Land Management, Interior.

ACTION: Notice of Filing of Plats of Survey; Arizona.

SUMMARY: The plats of survey of the described lands were officially filed in the Arizona State Office, Bureau of Land Management, Phoenix, Arizona, on dates indicated.

SUPPLEMENTARY INFORMATION:

The Gila and Salt River Meridian, Arizona:

The plat representing the dependent resurvey of a portion of the Gila and Salt River Meridian, the north boundary of the Gila River Indian Community, a portion of the northeast boundary of the Gila River Indian Community, and a portion of the subdivisional lines, Township 1 North, Range 1 East, accepted November 22, 2016, and officially filed November 23, 2016, for Group 1153, Arizona.

This plat was prepared at the request of the Bureau of Indian Affairs.

The plat representing the survey of a portion of the Ninth Standard Parallel North (south boundary), Township 37 North, Range 7 East, the survey of the east boundary, the survey of a portion of the subdivisional lines, and the subdivision of certain sections, Township 36 North, Range 7 East, accepted April 29, 2016, and officially filed May 3, 2016, for Group 1147, Arizona.

This plat was prepared at the request of the Bureau of Indian Affairs.

The plat representing the survey of a portion of the subdivisional lines, and the subdivision of certain sections, Township 36 North, Range 8 East, accepted April 29, 2016, and officially filed May 3, 2016, for Group 1147, Arizona.

This plat was prepared at the request of the Bureau of Indian Affairs.

The plat representing the dependent resurvey of a portion of the subdivisional lines, and the dependent resurvey of Homestead Entry Survey No. 97, Township 14 North, Range 10 East, accepted August 31, 2016, and officially filed September 2, 2016, for Group 1123, Arizona.

This plat was prepared at the request of the United States Forest Service.

The plat representing the dependent resurvey of a portion of the south boundary, the dependent resurvey of a portion of the subdivisional lines, and the subdivision of section 29, Township 18 North, Range 26 East, accepted April 29, 2016, and officially filed May 3, 2016, for Group 1146, Arizona.

This plat was prepared at the request of the National Park Service.

The plat representing the dependent resurvey of a portion of the Arizona-Utah State Line (north boundary), the survey of the subdivisional lines, and the subdivision of certain sections, Township 41 North, Range 26 East, accepted September 20, 2016, and officially filed September 21, 2016, for Group 1150, Arizona.

This plat was prepared at the request of the Bureau of Indian Affairs.

The supplemental plat showing the correction to the location of Mineral Survey No. 542, and the subsequent amended lotting, section 33, Township 24 North, Range 18 West, accepted September 9, 2015, and officially filed September 10, 2015, for Supplemental Group 9109, Arizona.

This plat was prepared at the request of the Bureau of Land Management.

A person or party who wishes to protest against any of these surveys must file a written protest with the Arizona State Director, Bureau of Land Management, stating that they wish to protest.

A statement of reasons for a protest may be filed with the notice of protest to the State Director, or the statement of reasons must be filed with the State Director within thirty (30) days after the protest is filed.

FOR FURTHER INFORMATION CONTACT: These plats will be available for inspection in the Arizona State Office, Bureau of Land Management, One North Central Avenue, Suite 800, Phoenix, Arizona 85004-4427. Persons who use a telecommunications device for the deaf (TDD) may call the Federal Information Relay Service (FIRS) at 1-800-877-8339 to contact the above individual during normal business hours. The FIRS is available 24 hours a day, 7 days a week, to leave a message or question with the above individual. You will receive a reply during normal business hours.

Gerald T. Davis,
Chief Cadastral Surveyor of Arizona.

[FR Doc. 2017-01008 Filed 1-17-17; 8:45 am]

BILLING CODE 4310-32-P